DEPARTMENT OF DEFENSE

Office of the Secretary

[Docket ID DoD-2014-OS-0147]

Privacy Act of 1974; System of Records

AGENCY: Office of the Inspector General (IG), DoD.

ACTION: Notice to alter a System of Records.

SUMMARY: The Office of the Inspector General is altering a system of records notice in its existing inventory of record systems subject to the Privacy Act of 1974, as amended. The system notice is entitled CIG-06, “Investigative Files.” This system of records is used to conduct criminal investigations, crime prevention, and criminal intelligence activities; to conduct management studies involving analysis, compilation of statistics, and quality control; and to ensure that completed investigations are legally sufficient and result in overall improvement in techniques, training and professionalism.

DATES: Comments will be accepted on or before December 15, 2014. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mark Dorgan, DoD IG FOIA/Privacy Office, Department of Defense, Inspector General, 4800 Mark Center Drive, Alexandria, VA 22350-1500 or telephone: (703) 699-5680.

SUPPLEMENTARY INFORMATION: The Office of the Inspector General notices for systems of records subject to the Privacy Act of 1974 (5 U.S.C. 552a), as amended, have been published in the Federal Register and are available from the address in FOR FURTHER INFORMATION CONTACT or from the Defense Privacy and Civil Liberties Web site at http://dpclo.defense.gov/.

The proposed systems reports, as required by 5 U.S.C. 552a(r) of the Privacy Act, as amended, were submitted on November 7, 2014, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: November 10, 2014.
Aaron Siegel,
Alternate OSD Federal Register Liaison Officer, Department of Defense.

CIG-06

System Name:

Investigative Files (October 15, 2008, 73 FR 61084)

Changes:

* * * * *

System location:

Delete entry and replace with “Primary location: Office of the Inspector General, Department of Defense, Office of the Deputy Inspector General for Investigations, Defense Criminal Investigative Service (DCIS), 4800 Mark Center Drive, Alexandria, VA 22350-1500.

Decentralized locations: Defense Criminal Investigative Service Field Offices, Resident Agencies, and Posts of Duty.”

* * * * *

Categories of records in the system:

Delete entry and replace with “Reports of Investigations (ROIs), Information Reports (IRs) and criminal intelligence reports containing statements of witnesses, suspects, subject(s) and special agents; laboratory reports, polygraph records to include charts, reports, technical data, rights waivers, polygraph waivers, numerical score sheets, interview logs, test questions sheets, and all other documents relating to the polygraphs, all consensual or nonconsensual monitoring, documentary evidence, physical evidence, summary and administrative data pertaining to preparation and distribution of the report; basis for allegations; investigative information from Federal, State, Tribal and local investigative and intelligence agencies and departments and all correspondence relevant to the investigation, location of investigation, year and date of offense, personal identifiers such as names, date of birth, place of birth, Social Security Number (SSN), alien registration number, driver's license number, and photos of persons who have been subjects of electronic surveillance, suspects, subjects' witnesses and victims of crimes, report number which allows access to records noted above; agencies, firms, and Defense Department organizations which were the subject(s) or victim(s) of criminal investigations; and disposition and suspense of offenders listed in criminal investigative files, agents notes, working papers, confidential source documents, subpoenas, Grand Jury documents, finger print cards, requests approvals for case openings and or closings, special investigative techniques requiring approval by management.”

* * * * *

Routine uses of records maintained in the system, including categories of users and the purposes of such uses:

Delete entry and replace with “In addition to those disclosures generally permitted under 5 U.S.C. 552a(b) of the Privacy Act of 1974, as amended, these records or information contained therein may specifically be disclosed outside the DoD as a routine use pursuant to 5 U.S.C. 552a(b)(3) as follows:

To the U.S. Secret Service in conjunction with the protection of persons under its jurisdiction.

To other Federal, State, Tribal or local agencies having jurisdiction over the substance of the allegations or a related investigative interest in criminal law enforcement investigations including statutory violations, counter-intelligence, counter-espionage and counter-terrorist activities and other security matters.

To other Federal Inspector General offices, the President's Council on Integrity and Efficiency, and/or other Federal law enforcement agencies for the purpose of coordinating and conducting administrative inquiries and civil and criminal investigations, or when responding to such offices, Council, and agencies in connection with the investigation of potential violations of law, rule, and/or regulation.

To other Federal Inspector General offices, the President's Council on Integrity and Efficiency, and/or the Department of Justice for purposes of conducting external reviews to ensure that adequate internal safeguards and management procedures continue to exist within the Office of the Inspector General of the Department of Defense.

To State, Territorial, and District of Columbia, and Commonwealth Attorney Generals and their respective employees, statistical purposes or evidentiary documentation in connection with their agency investigation(s).

To State, Territorial, Commonwealth, County, or City law enforcement officials and their respective employees, upon a statistical purposes or evidentiary documentation in connection with their agency investigation(s).

The DoD Blanket Routine Uses set forth at the beginning of the OIG's compilation of systems of records notices may also apply to this system.”

* * * * *

Storage:

Delete entry and replace with “Paper records and electronic storage media.”

* * * * *

Safeguards:

Delete entry and replace with “The primary storage location and many decentralized locations are in buildings protected by guards during non-duty hours. The paper records are stored in locked areas. Access to electronic records is restricted to those with a need-to-know, and the user must logon to the system via Common Access Card (CAC) and password.”

* * * * *

System manager(s) and address:

Delete entry and replace with “Director, Internal Operations Directorate, Defense Criminal Investigative Service, Office of the Inspector General for Investigations, Office of the Inspector General of the Department of Defense, 4800 Mark Center Drive, Alexandria, VA 22350-1500.”

Notification procedures:

Delete entry and replace with “Individuals seeking to determine whether information about themselves is contained in this system should address written inquiries to the Chief, Freedom of Information Act Requester Service Center/Privacy Act Office, Assistant Inspector General for Communications and Congressional Liaison, Office of the Inspector General, DoD, 4800 Mark Center Drive, Alexandria, VA 22350-1500.

For verification purposes, individuals shall provide their full name, address, any details which may assist in locating records of the individual, and their signature.

In addition, the requester must provide a notarized statement or a signed declaration made in accordance with 28 U.S.C. 1746, in the following format:

If executed outside the United States:

`I declare under penalty of perjury under the laws of the United States of America that the foregoing is true and correct. Executed on (date).' (Signature).

If executed within the United States, its territories, possessions, or commonwealths: `I declare under penalty of perjury that the foregoing is true and correct. Executed on (date).' (Signature).”

Record access procedures:

Delete entry and replace with “Individuals seeking access to information about themselves contained in this system should address written inquiries to the Chief, Freedom of Information Act Requester Service Center/Privacy Act Office, Assistant Inspector General for Communications and Congressional Liaison, Office of the Inspector General, DoD, 4800 Mark Center Drive, Alexandria, VA 22350-1500.

For verification purposes, individuals shall provide their full name, address, any details which may assist in locating records of the individual, and their signature.

In addition, the requester must provide a notarized statement or a signed declaration made in accordance with 28 U.S.C. 1746, in the following format:

If executed outside the United States:

`I declare under penalty of perjury under the laws of the United States of America that the foregoing is true and correct. Executed on (date).' (Signature).

If executed within the United States, its territories, possessions, or commonwealths: `I declare under penalty of perjury that the foregoing is true and correct. Executed on (date).' (Signature).”

* * * * *

[FR Doc. 2014-26970 Filed 11-13-14; 8:45 am]

BILLING CODE 5001-06-P